DEPARTMENT OF LABOR

Mine Safety and Health Administration

Petitions for Modification

The following parties have filed petitions to modify the application of existing safety standards under section 101(c) of the Federal Mine Safety and Health Act of 1977 and 30 CFR part 44.

1. FKZ Coal, Inc.

[Docket No. M-2006-019-C]

FKZ Coal, Inc., P.O. Box 62, Locust Gap, Pennsylvania 17840 has filed a petition to modify the application of 30 CFR 75.1400 (Hoisting equipment; general) to its No. 1 Slope Mine (MSHA I.D. No. 36-08637) located in Northumberland County, Pennsylvania. The petitioner requests that previously granted petition for modification, docket number M-98-012-C, be amended to change the wire rope from ⅞-inch wire rope to ⅝ inch wire rope. As in the previously granted petition for modification, the petitioner proposes to use the slope (gunboat) to transport persons in shafts and slopes without safety catches or other no less effective devices. Instead, petitioner proposes to use an increased rope strength/safety factor and secondary safety rope connection. The petitioner asserts that the proposed alternative method would provide at least the same measure of protection as the existing standard.

2. McElroy Coal Company

[Docket No. M-2006-020-C]

McElroy Coal Company, RD #4, Box 425, Route 2, Moundsville, West Virginia 26041 has filed a petition to modify the application of 30 CFR 77.214(a) (Refuse piles; general) to its McElroy Mine (MSHA I.D. No. 46-01437) located in Marshall County, West Virginia. The petitioner proposes to abandon the escape shaft by filling it with cement grout and capping the shaft with a 6-inch thick concrete cap along with a minimum 5-foot thick by 25-foot wide clay cap. They previously described this proposal in the Sealing Plan submitted on April 6, 2006 to the MSHA District 3 office in Morgantown, West Virginia and included it as “Attachment 1” to the petition for modification. Further, the petitioner proposes to backfill around and or near the abandoned shaft with coarse coal refuse as part of the expansion of the Conner Run Dam after the abandonment of the shaft is completed. In addition, petitioner avers that abandonment of the shaft with cement grout will eliminate the potential of material consolidation, void formation or seepage flows between the abandoned shaft and underground workings. The petitioner asserts that the proposed alternative method would provide at least the same measure of protection as the existing standard.

3. AMFIRE Mining Company, LLC

[Docket No. M-2006-021-C]

AMFIRE Mining Company, LLC, One Energy Place, Latrobe, Pennsylvania 15650 has filed a petition to modify the application of 30 CFR 75.1100-2(e)(2) (Quantity and location of firefighting equipment) to its Madison Mine (MSHA I.D. No. 36-09127) located in Cambria County, Pennsylvania. The petitioner requests a modification of the existing standard to permit an alternative method of compliance with the firefighting equipment required at temporary electrical installations. The petitioner proposes to use two (2) fire extinguishers or one fire extinguisher of twice the required capacity at all temporary electrical installations, in lieu of using 240 pounds of rock dust. In support of the request, petitioner asserts that having two (2) fire extinguishers at each temporary electrical installation will eliminate or minimize the problems associated with the maintenance of rock dust at temporary electrical installations. The petitioner asserts that the proposed alternative method would provide at least the same measure of protection as the existing standard.

4. R S & W Coal Company, Inc.

[Docket No. M-2006-022-C]

R S & W Coal Company, Inc., 207 Creek Road, Klingerstown, Pennsylvania 17941 has filed a petition to modify the application of 30 CFR 75.1714-2(c) (Self-rescue devices; use and location requirements) to its RS&W Drift Mine (MSHA I.D. No. 36-01818) located in Schuylkill County, Pennsylvania. The petitioner requests a modification of the existing standard to permit self-contained self-rescue (SCSR) devices to be stored within 200 feet of the working face. The petitioner states that in steeply pitching, conventional anthracite mines, entries are advanced as far as 200 feet vertically, which exposes the miner to trip and fall hazards and the necessity of carrying supplies up narrow entries while wearing the SCSRs may result in damage to the SCSR and also may result in a diminution of safety to the miner. The petitioner asserts that the proposed alternative method would provide at least the same measure of protection as the existing standard.

Request for Comments

Persons interested in these petitions are encouraged to submit comments via E-mail to zzMSHA-Comments@dol.gov. Include “petitions for modification” in the subject line of the e-mail. Comments can also be submitted by fax, regular mail, or hand-delivery. If faxing your comments, include “petitions for modification” on the subject line of the fax. Comments by regular mail or hand-delivery should be submitted to the Mine Safety and Health Administration, Office of Standards, Regulations, and Variances, 1100 Wilson Boulevard, Room 2350, Arlington, Virginia 22209. If hand-delivered, you are required to stop by the 21st floor to check in with the receptionist. All comments must be postmarked or received by the Office of Standards, Regulations, and Variances on or before October 10, 2006. Copies of the petitions are available for inspection at that address.

Dated at Arlington, Virginia, this 25th day of August 2006.
Ria Moore Benedict,
Deputy Director, Office of Standards, Regulations, and Variances.

[FR Doc. E6-14888 Filed 9-7-06; 8:45 am]

BILLING CODE 4510-43-P